DEPARTMENT OF AGRICULTURE

Forest Service

Rouge/Umpqua Resource Advisory Committee (RAC)

AGENCY: Forest Service, USDA.

ACTION: Notice of meeting.

SUMMARY: The Rogue/Umpqua Resource Advisory Committee (RAC) will meet on Wednesday, January 30, and Thursday, January 31, 2002. The meeting is scheduled to begin at 9:30 a.m. on January 30, and at 8:30 a.m. on January 31. Both meetings will conclude at approximately 4:00 p.m. The meetings will be held at the Grants Pass Inn and Suites; 243 NE Morgan Lane, Grants Pass, Oregon; (541) 472-1808. The tentative agenda for January 30 includes: (1) FACA Overview; (2) Roles and Responsibilities for Advisory Committees; (3) Timelines for projects related to the Secure Rural Schools and Community Self-Determination Act of 2000; (4) Election of RAC chairperson; and (5) Public Forum. The Public Forum is tentatively scheduled to begin at 3:20 p.m. Time allotted for individual presentations will be limited to 3-4 minutes. The tentative agenda for January 31 includes: (1) Presentation of projects proposed by the Forest Service; (2) Public Forum. The Public Forum is tentatively scheduled to begin at 3:45 p.m. Time allotted for individual presentations will be limited to 3-4 minutes. Written comments are encouraged, particularly if the material cannot be presented within the time limits for the Public Forum. Written comments may be submitted prior to the January 30 and 31 meetings by sending them to Designated Federal Official Jim Caplan at the address given below.

FOR FURTHER INFORMATION CONTACT: For more information regarding this meeting, contact Designated Federal Official Jim Caplan; Umpqua National Forest; PO Box 1008, Roseburg, Oregon 97470; (541) 957-3200.

Dated: December 21, 2001.
Richard Sowa,
Acting Forest Supervisor, Umpqua National Forest.

[FR Doc. 01-32141 Filed 12-31-01; 8:45 am]

BILLING CODE 3410-11-M